DEPARTMENT OF DEFENSE

Department of the Navy

Notice of Availability of a Draft Supplemental Environmental Impact Statement/Supplemental Overseas Environmental Impact Statement for Surveillance Towed Array Sensor System Low Frequency Active (SURTASS LFA) Sonar

AGENCY: Department of the Navy, DoD.

ACTION: Notice.

SUMMARY: Pursuant to the National Environmental Policy Act as implemented by the Council on Environmental Quality regulations (40 CFR parts 1500-1508) and Executive Order 12114, the United States Department of the Navy (Navy) has prepared and filed with the United States Environmental Protection Agency (USEPA) a Draft Supplemental Environmental Impact Statement/Supplemental Overseas Environmental Impact Statement (Draft SEIS/SOEIS) for employment of SURTASS LFA sonar.

DATES AND ADDRESSES: The public comment period for the SURTASS LFA sonar Draft SEIS/SOEIS will be open for 45 days, from August 26 to October 11, 2016. The Final SEIS/SOEIS is expected to be completed by June 2017. Written comments on the SURTASS LFA sonar Draft SEIS/SOEIS may be submitted by mail to: SURTASS LFA sonar SEIS/SOEIS Program Manager, 4350 Fairfax Drive, Suite 600, Arlington, VA 22203-1632, or by Email: eisteam@surtass-lfa-eis.com. The Draft SEIS/SOEIS is available for download via the project Web site: http://www.surtass-lfa-eis.com. Comments must be postmarked or received by October 11, 2016, to ensure they are considered in the Final SEIS/SOEIS.

FOR FURTHER INFORMATION CONTACT: SURTASS LFA sonar SEIS/SOEIS Program Manager, 4350 Fairfax Drive, Suite 600, Arlington, VA 22203-1632, Email: eisteam@surtass-lfa-eis.com.

SUPPLEMENTARY INFORMATION: In continuance of the Navy's commitment to responsible stewardship of the marine environment and building upon analyses and information included in the Navy's 2001 Final Overseas Environmental Impact Statement/Environmental Impact Statement (OEIS/EIS) published in the Federal Register on January 26, 2001 (66 FR 8788), 2007 Final Supplemental EIS (SEIS) published in the Federal Register on May 4, 2007 (72 FR 25302), 2012 Final SEIS/SOEIS published in the Federal Register on June 8, 2012 (77 FR 34041), and 2015 Final SEIS/SOEIS published in the Federal Register on January 30, 2015 (80 FR 5109), the Navy has prepared a comprehensive assessment of the potential environmental impacts associated with continued employment of SURTASS LFA sonar systems. Hereafter, “SURTASS LFA sonar systems” is inclusive of both the LFA and Compact LFA sonar systems, each having similar acoustic transmission characteristics.

The Navy proposes to continue employing up to four SURTASS LFA sonar systems onboard up to four Navy surveillance ships for routine training, testing, and military operations in the Pacific, Atlantic, and Indian oceans and the Mediterranean Sea, including certain geographic limitations on operation of SURTASS LFA sonar and implementation of mitigation and monitoring measures. The Draft SEIS/SOEIS evaluates the environmental impacts associated with two action alternatives and a No-Action Alternative. The primary difference between the action alternatives is that the Navy's preferred alternative reduces the annual permitted allowance of LFA sonar transmissions from 432 hours (Alternative 1) to 255 hours (Alternative 2) per ship. The Draft SEIS/SOEIS and associated analyses will also be used to support consultations associated with required regulatory permits and authorizations effective in 2017.

The Draft SEIS/SOEIS was distributed to appropriate federal, state, and local agencies and organizations, Native Alaskan and Native Tribal governments and organizations, and other interested parties. The Draft SEIS/SOEIS is available for public viewing and downloading at the following project Web site: http://www.surtass-lfa-eis.com. Compact disc copies of the Draft SEIS/SOEIS are available upon request from: SURTASS LFA Sonar SEIS/SOEIS Program Manager, 4350 Fairfax Drive, Suite 600, Arlington, VA 22203-1632, Email: eisteam@surtass-lfa-eis.com. Compact discs of the Draft SEIS/OEIS are available for public review at the following public libraries:

1. Jacksonville Public Library, 303 N. Laura Street, Jacksonville, FL 32202;

2. Camden County Public Library, 1410 Hwy 40 E, Kingsland, GA 31548;

3. Ben May Main Library, 701 Government Street, Mobile, AL 36602;

4. Meridian-Lauderdale County Public Library, 2517 7th Street, Meridian, MS 39301;

5. New Orleans Public Library, 219 Loyola Avenue, New Orleans, LA 70112;

6. Houston Public Library, 500 McKinney Street, Houston, TX 77002;

7. New Hanover County Public Library, 201 Chestnut Street, Wilmington, NC 28401;

8. Anne Arundel County Public Library, 1410 West Street, Annapolis, MD 21401;

9. Charleston County Public Library, 68 Calhoun Street, Charleston, SC 29401;

10. Mary D. Pretlow Anchor Branch Library, 111 W. Ocean View Avenue, Norfolk, VA 23503;

11. Portland Public Library, 5 Monument Square, Portland, ME 04101;

12. Providence Public Library, 150 Empire Street, Providence, RI 02903;

13. Boston Public Library, 700 Boylston Street, Boston, MA 02116;

14. The Seattle Public Library, 1000 Fourth Avenue, Seattle, WA 98104;

15. Los Angeles Public Library, 630 W. 5th Street, Los Angeles, CA 90071;

16. San Francisco Public Library, 100 Larkin Street, San Francisco, CA 94102;

17. Oregon State University, 250 Winter Street NE., Salem, OR 97301;

18. Alaska Resources Library and Information Services, 3211 Providence Drive, Anchorage, AK 99508;

19. Hawaii State Library, 478 South King Street, Honolulu, HI 96813;

20. Nieves M. Flores Memorial Public Library, 254 Martyr Street, Hagåtña, Guam 96910; and

21. The Feleti Barstow Public Library, Pago Pago, American Samoa, 96799.

Written comments on the Draft SEIS/SOEIS can be submitted by mail: SURTASS LFA Sonar SEIS/SOEIS Program Manager, 4350 Fairfax Drive, Suite 600, Arlington, VA 22203-1632, or by Email: eisteam@surtass-lfa-eis.com. All written comments must be postmarked by October 11, 2016 to ensure that they become part of the official record. All timely comments will be addressed in the Final SEIS/SOEIS. No public hearings or meetings will be held.

Dated: August 18, 2016.
C. Pan,
Lieutenant, Judge Advocate General's Corps, U.S. Navy, Alternate Federal Register Liaison Officer.

[FR Doc. 2016-20500 Filed 8-25-16; 8:45 am]

BILLING CODE 3810-FF-P